DEPARTMENT OF ENERGY

Federal Energy Regulatory Commission

Combined Notice of Filings #2

Take notice that the Commission received the following exempt wholesale generator filings:

Docket Numbers: EG25-424-000.

Applicants: Branch Solar, LLC.

Description: Branch Solar, LLC submits Notice of Self-Certification of Exempt Wholesale Generator Status.

Filed Date: 7/31/25.

Accession Number: 20250731-5234.

Comment Date: 5 p.m. ET 8/21/25.

Take notice that the Commission received the following electric rate filings:

Docket Numbers: ER23-1760-004.

Applicants: Guernsey Power Station LLC.

Description: Compliance filing: Guernsey Power Station Schedule 2 Filing to be effective N/A.

Filed Date: 8/1/25.

Accession Number: 20250801-5149.

Comment Date: 5 p.m. ET 8/22/25.

Docket Numbers: ER25-3067-000.

Applicants: ISO New England Inc., Central Maine Power Company.

Description: 205(d) Rate Filing: Central Maine Power Company submits tariff filing per 35.13(a)(2)(iii): CMP; Limited Revisions to the Formula Rate Template in Attachment F, Appendix A to be effective 10/1/2025.

Filed Date: 8/1/25.

Accession Number: 20250801-5059.

Comment Date: 5 p.m. ET 8/22/25.

Docket Numbers: ER25-3068-000.

Applicants: Black Hills Power, Inc.

Description: 205(d) Rate Filing: Filing of Amended and Restated LGIA with Vedauwoo Holdings Black Hills 1, LLC to be effective 7/10/2025.

Filed Date: 8/1/25.

Accession Number: 20250801-5071.

Comment Date: 5 p.m. ET 8/22/25.

Docket Numbers: ER25-3070-000.

Applicants: Midcontinent Independent System Operator, Inc., Indianapolis Power & Light Company.

Description: 205(d) Rate Filing: Indianapolis Power & Light Company submits tariff filing per 35.13(a)(2)(iii): 2025-08-01_IPL dba AES Transition to Forward Looking Formula Rate to be effective 10/1/2025.

Filed Date: 8/1/25.

Accession Number: 20250801-5107.

Comment Date: 5 p.m. ET 8/22/25.

Docket Numbers: ER25-3071-000.

Applicants: Prairie Wolf Solar, LLC.

Description: Compliance filing: Revised Market-Based Rate Tariff to Update Category Seller Status to be effective 8/2/2025.

Filed Date: 8/1/25.

Accession Number: 20250801-5124.

Comment Date: 5 p.m. ET 8/22/25.

Docket Numbers: ER25-3072-000.

Applicants: Branch Solar, LLC.

Description: 205(d) Rate Filing: Application For Market-Based Rate Authorization to be effective 10/30/2025.

Filed Date: 8/1/25.

Accession Number: 20250801-5153.

Comment Date: 5 p.m. ET 8/22/25.

Docket Numbers: ER25-3073-000.

Applicants: PJM Interconnection, L.L.C.

Description: PJM Interconnection, L.L.C. submits request for prospective waiver of its OATT, allowing extension of the deadline for PJM Members to vote and PJM to submit the next Periodic Review Proposal Effective with the 2028/2029 Delivery Year.

Filed Date: 8/1/25.

Accession Number: 20250801-5167.

Comment Date: 5 p.m. ET 8/8/25.

Docket Numbers: ER25-3074-000.

Applicants: Midcontinent Independent System Operator, Inc.

Description: 205(d) Rate Filing: 2025-08-01_Tariff Revisions Related to ROE-TO Specific to be effective 8/2/2025.

Filed Date: 8/1/25.

Accession Number: 20250801-5166.

Comment Date: 5 p.m. ET 8/22/25.

Docket Numbers: ER25-3075-000.

Applicants: NorthWestern Corporation.

Description: 205(d) Rate Filing: SA 605 Eighth Rev—NITSA/NOA with Bonneville Power Admin to be effective 10/1/2025.

Filed Date: 8/1/25.

Accession Number: 20250801-5175.

Comment Date: 5 p.m. ET 8/22/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: August 1, 2025.
Debbie-Anne A. Reese,
Secretary.

[FR Doc. 2025-14914 Filed 8-5-25; 8:45 am]

BILLING CODE 6717-01-P